COMMISSION ON CIVIL RIGHTS

Sunshine Act Notice

AGENCY: United States Commission on Civil Rights.

ACTION: Notice of meeting.

Date and Time: Friday, October 17, 2008; 9:30 a.m.

Place: U.S. Commission on Civil Rights, 624 Ninth Street, NW., Rm. 540, Washington, DC 20425.

Meeting Agenda

I. Approval of Agenda

II. Approval of Minutes

• September 12, 2008 Meeting

• September 30, 2008 Meeting

III. Announcements

IV. Staff Director's Report

V. Program Planning

• FY 2009 Statutory Report Concept Paper

• Proposed Letter to the State Bar of California

VI. State Advisory Committee Issues

• Arkansas SAC

• Minnesota SAC

• North Carolina SAC

VII. Future Agenda Items

VIII. Adjourn

Contact Person for Further Information: Lenore Ostrowsky, Acting Chief, Public Affairs Unit (202) 376-8582.

Date: October 7, 2008.
David Blackwood,
General Counsel.

[FR Doc. E8-24198 Filed 10-7-08; 4:15 pm]

BILLING CODE 6335-01-P